DEPARTMENT OF THE INTERIOR

Bureau of Land Management

[19X.LLAK930100 L510100000.ER0000]

Notice of Extension of Time To Prepare the Ambler Road Environmental Impact Statement, Alaska

AGENCY: Bureau of Land Management, Interior.

ACTION: Notice of extension of time.

SUMMARY: In accordance with the National Environmental Policy Act of 1969, as amended, and the Federal Land Policy and Management Act of 1976, as amended, the Bureau of Land Management (BLM) is preparing the Final Environmental Impact Statement (EIS) for the proposed Ambler Road project. By this notice, BLM is announcing an extension of time to complete the Final EIS in accordance with Alaska National Interest Lands Conservation Act (ANILCA) section 1104(e).

DATES: Completion of the Final EIS for the Ambler Road Project is extended, to occur no later than March 31, 2020.

FOR FURTHER INFORMATION CONTACT: Tina McMaster-Goering, Ambler Road EIS Project Manager, telephone: 907-271-1310; address: 222 West 7th Avenue, #13, Anchorage, AK 99513. You may also request to be added to the mailing list for the EIS. Documents pertaining to the EIS may be examined at https://www.blm.gov/AmblerRoadEIS.

Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Alaska Industrial Development and Export Authority (AIDEA), a public corporation of the State of Alaska, submitted an application for an industrial road right-of-way (ROW) in north-central Alaska across federal public lands and other lands. The road would run from the existing Dalton Highway to the Ambler Mining District. The area involved lies south of the Brooks Range, north of the Yukon River, west of the Dalton Highway and east of the Purcell Mountains. The BLM is the lead Federal agency in the preparation of the EIS. According to ANILCA Section 1104(e), Federal agencies have one-year from Notice of Intent to complete the EIS.

The Notice of Intent published in the Federal Register on February 28, 2017, initiating a 90-day public scoping period and indicating a completion date for the Final EIS of December 30, 2019. On April 7, 2017, the BLM extended the public scoping period through January 31, 2018 to accommodate subsistence activities in rural Alaska.

The Notice of Availability for the Draft EIS was published in the Federal Register on August 30, 2019, initiating a comment period, which closed on Oct. 29, 2019. The BLM held public hearings on subsistence resources and activities in conjunction with the public meetings on the Draft EIS in 19 affected rural Alaskan communities. In order to thoroughly review and respond to the public comments and prepare the Final EIS, a time extension through March 31, 2020, is necessary.

Authority: 40 CFR 1506.6(b).

Chad B. Padgett,
State Director, Alaska.

[FR Doc. 2020-03971 Filed 2-26-20; 8:45 am]

BILLING CODE 4310-JA-P